DEPARTMENT OF DEFENSE

Defense Acquisition Regulations System

48 CFR Part 252

RIN 0750-AI15

Defense Federal Acquisition Regulation Supplement: Proposal Adequacy Checklist Revision (DFARS Case 2013-D033)

AGENCY: Defense Acquisition Regulations System, Department of Defense (DoD).

ACTION: Final rule.

SUMMARY: DoD is issuing a final rule amending the Defense Federal Acquisition Regulation Supplement (DFARS) to remove a redundant item from the solicitation provision, Proposal Adequacy Checklist.

DATES: Effective January 29, 2014.

FOR FURTHER INFORMATION CONTACT: Susan Williams, telephone 571-372-6092.

SUPPLEMENTARY INFORMATION:

I. Discussion

DoD is revising the DFARS to remove and reserve item 19 of the solicitation provision at DFARS 252.215-7009, Proposal Adequacy Checklist. Item 19 required price analysis for all commercial items offered that are not available to the general public. Through further research and discussion, DOD has determined that item 19 listed on the Proposal Adequacy Checklist is duplicative in nature. DoD has concluded that items proposed with a commercial basis under subcontracts in the proposal require price analysis by the offeror. Furthermore, DoD has also concluded that question 14 under the Material and Service section and question 17 under the Subcontracts section on the Proposal Adequacy Checklist currently address the requirement for price analysis of the proposed commercial item that is produced or performed by others.

II. Publication of This Final Rule for Public Comment Is Not Required by Statute

“Publication of proposed regulations,” 41 U.S.C. 1707, is the statute which applies to the publication of the Federal Acquisition Regulation. Paragraph (a)(1) of the statute requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This final rule is not required to be published for public comment, because the changes are not substantive and will not place any additional burden on the public.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant DFARS revision within the meaning of FAR 1.501-1, and 41 U.S.C. 1707 does not require publication for public comment.

V. Paperwork Reduction Act

The rule does not contain any information collection requirements that require the approval of the Office of Management and Budget under the Paperwork Reduction Act (44 U.S.C. chapter 35).

List of Subjects in 48 CFR Part 252

Government procurement.

Manuel Quinones,
Editor, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR Chapter 1.

252.215-7009 [Amended]

2. Amend section 252.215-7009 by—

a. Removing the provision date “(MAR 2013)” and adding “(JAN 2014)” in its place; and

b. Removing from the Proposal Adequacy Checklist, item 19—

i. Under the “References” column, “FAR 15.408, Table 15-2, Section II, Paragraph A”; and

ii. Under the “Submission Item” column, “Does the proposal include a price analysis for all commercial items offered that are not available to the general public?” and adding in its place “[Reserved]”.

[FR Doc. 2014-01274 Filed 1-28-14; 8:45 am]

BILLING CODE 5001-06-P